DEPARTMENT OF AGRICULTURE

Forest Service

Southwestern Region, Arizona, New Mexico, West Texas and Oklahoma; Proposed Surface Management of Natural Gas Resource Development on Jicarilla Ranger District, Carson National Forest, Rio Arriba County, NM

AGENCY: Forest Service, USDA.

ACTION: Notice of intent to prepare an environmental impact statement.

SUMMARY: The Carson National Forest, Jicarilla Ranger District is preparing an environmental impact statement (EIS) on a proposal to amend the Forest's Land and Resource Management Plan (hereafter called Forest Plan) to incorporate standards and guidelines for surface management of natural gas resource development on the Jicarilla Ranger District. The proposal would also determine the availability of all unleased National Forest System lands on the Jicarilla Ranger District (4,385 acres) and, if determined available for leasing, add any needed surface protection stipulations to be forwarded to the Bureau of Land Management (BLM) for future lease sales. Once a decision is made to amend the Forest Plan, the standards and guidelines in that decision would remain in effect until the Forest Plan is revised. The Carson National Forest is scheduled to begin a scheduled revision process in 2007 for completion by 2010.

Ninety-seven percent of the Jicarilla Ranger District of the Carson National Forest is currently leased. Most of the leases were issued between 1950 and 1970, prior to the passage of NEPA. Over 500 gas wells, with hundreds of miles of associated access roads, pipelines, compressor stations and other facilities currently exist on the District. Anticipated future development over the next 20 years on the District has been forecast to be around 700 more new wells. There is a need for an evaluation and determination of how to facilitate the orderly development of energy resources in the area, while minimizing disturbance to surface resources and uses. A comprehensive cumulative effects analysis that considers surface resource concerns of oil and gas development, such as impacts to wildlife, recreation, cultural resources and water quality, would provide information needed to establish new standards and guidelines in the Carson Forest Plan for management of oil and gas development on the Jicarilla Ranger District.

DATES: The Forest Service is asking that comments on the proposed action (scoping) be received by September 9, 2002. It is estimated that the draft EIS will be completed and distributed by February 2003. A 45-day comment period will follow the date the Environmental Protection Agency publishes the notice of availability in the Federal Register. The final EIS and record of decision are estimated to be released in October 2003.

ADDRESSES: The draft and final EIS will be available upon request from the Carson Forest Supervisor's Office, Attn: Lands and Minerals, 208 Cruz Alta Road, Taos, NM 87571. Comments related to the draft EIS can be sent to the Forest Supervisor, Attn: Jicarilla Gas Development EIS at the same address.

Responsible Official: The Forest Supervisor, Carson National Forest, is the responsible official and will decide whether or not: (1) 4,385 unleased acres scattered throughout the Jicarilla Ranger District would be made available for lease, and if so under what conditions; (2) the Forest Plan should be amended to provide for standards and guidelines (stipulations) for the issuance of any new leases that may result from the expiration, termination, or relinquishment of currently leased National Forest System lands; (3) the Forest Plan should be amended to provide standards and guidelines (conditions of approval) for approving development activities on currently leased National Forest System lands, if so what would they be and where would they be applied (4) monitoring is necessary, if so what type of monitoring.

FOR FURTHER INFORMATION CONTACT: Assistant Recreation, Lands and Minerals Staff Officer, Carson Forest Supervisor's Office (505) 758-6272.

SUPPLEMENTARY INFORMATION: The Forest Service is planning to amend the Carson Forest Plan to include new standards and guidelines for surface management of gas development on the Jicarilla Ranger District and to determine the availability of all unleased National Forest System lands on the Jicarilla Ranger District and if determined available for leasing, add any needed surface protection stipulations to be forwarded to the BLM for future lease sales.

Reasonable Foreseeable Development Scenario

In 2001, the BLM commissioned a study conducted by New Mexico Institute of Mining and Technology, with input from oil and gas industry representatives, to identify reasonable foreseeable development of oil and gas in the New Mexico portion of the San Juan Basin. This study resulted in a Reasonable Foreseeable Development Scenario (RFDS), which forms the basis for projected oil and gas development in the San Juan Basin over the next 20 years. The environmental analysis will address the cumulative effects of the RFDS. An RFDS is the prediction of the type and amount of oil and gas activity that would occur in a given area. The prediction is based on geologic and engineering factors, past history of drilling, and well spacing and density according to state regulations. The purpose of the RFDS is to provide a reasonable projection of the expected demand for development.

Details of the Proposed Action

Jicarilla Ranger District (except Special Areas—Bancos, Fierro, La Jara, Valencia and Highway 64)

In order to ensure access is available to reach gas resources, meet the energy needs of the Nation, sustain the productivity of the land for other uses, support biodiversity and maintain long-term health of the ecosystems on the Jicarilla Ranger District, the Forest Service proposes to include standards and guidelines in the Carson Forest Plan for the Jicarilla Ranger District (except Bancos, Fierro, La Jara, Valencia and Highway 64 Special Areas, which are described separately below). These proposed standards and guidelines would:

—Maintain a total road (open and gated) density of not more than 3 miles/mi² averaged over a 4 mi² area;

—Not exceed 50 acres averaged over a 4 mi² area of total surface disturbance (other than roads) resulting from gas development activities (past, present and future);

—Locate collector pipelines (tie-ins) along roads;

—Not allow well pad construction on slopes greater than 20 percent, with cuts over 15 feet, except when other resource needs indicate;

—Minimize new roads crossing slopes greater than 40 percent and ensure maximum grades of 8 percent (except on pitch grades not exceeding 300 feet in length and 10 percent in grade). Require an engineering design to support road construction on slopes greater than 40 percent;

—Gate all new roads over 300 feet, except when other resource needs indicate the road should be left open;

—Not allow gas field construction or rig activities to occur from November 1st to April 1st;

—Exclude well pad construction and minimize road crossings in riparian areas;

—Not see or hear gas development structures and activities from designated recreation sites;

—Not exceed a decibel level of 48.6 in all noise sensitive areas as established in the Noise Policy proposed by the BLM and require noise abatement measures on all new facilities throughout the Jicarilla Ranger District.

Bancos Canyon

The Forest Service proposes to continue to allow current leaseholders their legal access to the gas resource from the surrounding rim of Bancos Canyon. To protect unique cultural sites and the unroaded characteristics of Bancos Canyon, surface disturbing activities, such as well pads, pipelines or roads, would not be allowed or would be significantly restricted within the canyon itself. Any new leases would have a “no surface occupancy” stipulation.

Fierro Canyon and Mesa

The Forest Service proposes to continue to allow current leaseholders their legal access to the gas resource from the surrounding rim of Fierro Canyon. To protect the unroaded characteristics and wildlife values of Fierro Canyon, surface disturbing activities, such as well pads, pipelines or roads, would not be allowed or would be significantly restricted within the canyon itself. Any new leases for Fierro Canyon would have a “no surface occupancy” stipulation. The Forest Service proposes development on Fierro Mesa would be accomplished through gated access road(s). Overall surface disturbance on the Mesa would be limited. Water would be piped to a central location either on the Mesa, behind a gate, or off the Mesa. Use of remote sensing would be implemented to minimize road use.

La Jara and Valencia Canyons

The Forest Service proposes to continue to allow current leaseholders their legal access to the gas resource from the surrounding canyon rims of La Jara or Valencia Canyons. To protect unique cultural sites, wildlife values and the unroaded characteristics of these canyons, surface disturbing activities, such as well pads, pipelines or roads, would not be allowed or would be significantly restricted within the canyons themselves. Any new leases for La Jara or Valencia canyons proposed in the future would have “no surface occupancy” stated in the lease.

US Highway 64 Corridor

In order to protect the unique vistas and riparian vegetation seen from the US Highway 64 corridor, the Forest Service proposes to manage the US Highway 64 Corridor with a visual quality objective of Retention. Under Retention the existing character of the landscape is retained. The level of change to the characteristic landscape is low. Management activities may be seen, but should not attract attention of the casual observer. Any changes must repeat the basic elements of form, line, color and texture found in the predominant natural features of the characteristic landscape. In order to meet this objective, future well sites would require the use of low profile facilities, tanks painted in a dark color, tree screens and topography to hide facilities. Well sites would not be permitted on ridgelines and cuts in slopes over 15 feet would be prohibited. These visual quality standards would reduce or eliminate the visual impacts of gas development along US Highway 64.

Mitigation Measures

Along with the above standards and guidelines for each area, this proposed action assumes that the site-specific Conditions of Approval would be incorporated in any approved application for permit to drill (APD) a gas well. These conditions include standard mitigation measures and best management practices, such as inventory and protection of archeological sites, stabilization of disturbed sites and road maintenance.

Preliminary Issues and Alternatives

The Forest Service has developed this proposed action to meet a purpose and need with the best information available—it is not a decision. This proposal is intended to facilitate public involvement in identifying pertinent issues, developing meaningful alternatives, and analyzing relevant effects. The intent of a NEPA analysis is to consider and disclose the effects of a proposed action and its alternatives before making a decision.

Public Involvement

Public review and comments on the proposed action will help the Forest Service identify any issues generated by the proposal and aid in the development of alternatives to be analyzed. The EIS for Surface Management of the Natural Gas Resource Development on the Jicarilla Ranger District will evaluate the effects on watersheds, vegetation, wildlife, threatened and endangered plants and animals, riparian areas, soils, air and water quality, reaching gas resources, social and economic conditions, recreation, heritage resources, noise and other concerns that may arise from public response to this notice.

In addition to sending this report to the Ranger District's mailing list and others known to be interested in gas development activities in the area, the Forest Service will be holding two open houses. No presentation will be given, but the Forest Service and others will be on hand to answer questions, provide additional information (maps, fact sheets, etc.), and give you a chance to talk one-on-one with those involved in the environmental analysis. Anyone is invited to submit written or oral comments before and during the open house. These comments will be considered in developing alternatives for the Draft EIS.

Date | Time | Place
Thursday, September 5th | 3 pm-8 pm | Bloomfield Cultural Complex, 333 South First St., Bloomfield.
Friday, September 6th | 3 pm-8 pm | Farmington Civic Center, 200 W. Arrington, Farmington.

The Forest Service is requesting that public concerns and comments on the proposed action be submitted to the address below by September 9, 2002: Forest Supervisor, Attn: Jicarilla Gas Development EIS, Carson National Forest, 208 Cruz Alta Rd., Taos, NM 87571.

Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within seven days.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The Carson National Forest has contracted with Science Applications International Corporation (SAIC-Albuquerque) to develop the environmental impact statement in cooperation with the staff from the Jicarilla Ranger District and the Forest Supervisor's Office. In addition to conducting the technical analyses and developing the documents, SAIC will assist the Forest Service with public outreach efforts.

Dated: August 5, 2002.
Martin D. Chavez Jr.,
Forest Supervisor, Carson National Forest.

[FR Doc. 02-20399 Filed 8-12-02; 8:45 am]

BILLING CODE 3410-11-P